DEPARTMENT OF TRANSPORTATION

Pipeline and Hazardous Materials Safety Administration

Office of Hazardous Materials Safety; Notice of Application for Special Permits

AGENCY: Pipeline and Hazardous Materials Safety Administration, DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 18, 2006.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street SW., Washington, DC or at http://dms.dot.gov.

This notice of receipt of applications for special permits is published in accordance with Part 107 of the Federal hazardous materials transportation law (49 U.S.C. 5117(b); 49 CFR 1.53(b)).

Issued in Washington, DC, on November 13, 2006.
Delmer F. Billings,
Director, Office of Hazardous Materials Safety Special Permits & Approvals.

New Special Permit
Application No. | Docket No. | Applicant | Regulation(s) Affected | Nature of Special Permit Thereof
14420-N |  | Garden State Tobacco d/b/a H.J. Bailey Co., Neptune, NJ | 49 CFR 173.186(c) | To authorize the transportation in commerce of strike anywhere matches in non-DOT specification packages not exceeding 50 pounds each by private motor carrier not subject to the Hazardous Materials Regulations, except for marking. (mode 1).
14422-N |  | Patterson Logistics, Boone, IA | 49 CFR 172.101 Hazardous Materials Table, column 8A | To authorize the transportation in commerce of 4 ounces or less of ethyl chloride as a consumer commodity. (modes 1, 2, 3, 4, 5).
14423-N |  | Accutest Laboratories, Dayton, NJ | 49 CFR 173.4 | To authorize the transportation in commerce of Nitric acid other than red fuming with 50% or less nitric acid as small quantities under the provision of 49 CFR 173.4. (mode 4).
14424-N |  | Chart Industries, Inc., Ball Ground, GA | 49 CFR 172.203(a); 177.834(h) | To authorize filling and discharging of a DOT Specification 4L cylinder with carbon dioxide, refrigerated liquid without removal from the vehicle. (mode 1).
14427-N |  | The Procter & Gamble Company, Cincinnati, OH | 49 CFR 173.306(a) and 173.306(a)(3)(v) | To authorize the transportation in commerce of Division 2.2 aerosols in non-DOT specification plastic containers not subject to the hot water bath test. (modes 1, 2, 3, 4, 5).
14429-N |  | Schering-Plough, Union, NJ | 49 CFR 173.306(a)(3)(v) | To authorize the manufacture, marking, sale and use of a bag-on-valve spray packaging similar to an aerosol container without requiring the hot water bath test. (modes 1, 2, 3, 4, 5).
14430-N |  | Prometheus International, Inc., Commerce, CA | 49 CFR 173.306 | To authorize the transportation of a gas fuel tank for a lighter packaged in a special travel container in checked luggage on commercial passenger aircraft. (mode 5).

[FR Doc. 06-9234 Filed 11-16-06; 8:45 am]

BILLING CODE 4909-60-M